CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed Employers of National Service Enrollment Form. The Employers of National Service program is administered by CNCS (in conjunction with the Peace Corps, the National Peace Corps Association, the Points of Light Foundation and the Aspen Institute), and seeks to connect employers from all sectors with AmeriCorps and Peace Corps alumni. Organizations that are looking to join the initiative will be filling out this form in order to document their participation. Information provided is purely voluntary and will not be used for any grant or funding support.

Copies of the information collection request can be obtained by contacting the office listed in the Addresses section of this Notice.

DATES: Written comments must be submitted to the individual and office listed in the ADDRESSES section by October 19, 2015.

ADDRESSES: You may submit comments, identified by the title of the information collection activity, by any of the following methods:

(1) By mail sent to: Corporation for National and Community Service; Attention: Erin Dahlin, Deputy Chief of Program Operations, Room 9309; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Erin Dahlin, 202-606-6931, or by email at edahlin@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Organizations from all sectors seeking to become Employers of National Service will be filling out this form, including businesses, nonprofits, institutions of higher education, school districts, state/local governments, and federal agencies. One of the form's key purposes is to document what the organization is committing to doing as an Employer of National Service and provide organizational information to CNCS, the Peace Corps, the Points of Light Foundation, the Aspen Institute and the National Peace Corps Association. The information in the form will also allow CNCS to display the organization's information accurately online as a resource for job seekers. It will also enable CNCS to speak to the diversity within the program's membership, both for internal planning and external audience use. The information will be collected electronically via our Web site.

Current Action

This is a new information collection request. The items on the form are: Employer name; a short description of the employer; the sector in which the employer operates (private, nonprofit, etc.); location (specific address for headquarters and list of additional cities/states or countries, if applicable); workforce information (total employees, hires in last year, and number of national service alumni); human resources policy commitment as an Employer of National Service; contact information; a link to the Web page where alums can apply for employment; optional statement from leadership; the source from which the employer learned about the program, and any optional comments.

Type of Review: New.

Agency: Corporation for National and Community Service.

Title: Employers of National Service Enrollment Form.

OMB Number: None.

Agency Number: None.

Affected Public: Any organization seeking to join the Employers of National Service program.

Total Respondents: 300.

Frequency: Ongoing.

Average Time per Response: 15 minutes.

Estimated Total Burden Hours: 75 hours.

Total Burden Cost (capital/startup): None.

Total Burden Cost (operating/maintenance): None.

Comments submitted in response to this notice will be summarized and/or included in the request for Office of Management and Budget approval of the information collection request; they will also become a matter of public record.

Dated: August 17, 2015.
Erin Dahlin,
Deputy Chief of Program Operations.

[FR Doc. 2015-20600 Filed 8-19-15; 8:45 am]

BILLING CODE 6050-28-P